DEPARTMENT OF ENERGY

Federal Energy Regulatory Commission

[Docket No. CP03-7-000]

Colorado Interstate Gas Company; Notice of Application

November 1, 2002.

Take notice that on October 23, 2002, Colorado Interstate Gas Company (CIG), P.O. Box 1087, Colorado Springs, Colorado 80944, filed in the above referenced docket, an application pursuant to Section 7(c) of the Natural Gas Act (NGA) and part 157 of the Commission's Rules and Regulations, for a certificate of public convenience and necessity authorizing the construction, ownership, and operation of facilities in Colorado to enhance the summer season capacity on that portion of its pipeline system known as the Valley Line (Summer-time Enhancement Project), and to incrementally increase capacity to meet the needs of certain Valley Line customers subscribing to additional capacity during a recent open season (Valley Line 2003 Expansion Project). This application is on file with the Commission and open to public inspection. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866)208-3676, or for TTY, contact (202)502-8659.

Specifically, CIG proposes to construct and operate the following facilities:

(1) A 1,775 horsepower (ISO) “jumper” compressor unit that will compress gas from CIG's Line Nos. 5A and 5B into its newly constructed Line No. 5C. This facility will be located at CIG's existing Cheyenne Compressor Station in Weld County, Colorado, (2) a 7,800 horsepower (ISO) turbine compressor unit to be installed on CIG's Line No. 5C, also to be located at the Cheyenne Compressor Station, and

(3) A 1,650 horsepower (ISO) facility that will blend air into the gas stream in CIG's recently constructed Line No. 212A. This blending facility is necessary to stabilize the heat content of gas delivered to CIG's customers on the Valley Line. This facility is to be constructed immediately adjacent to CIG's Drennan Road Meter Station in Colorado Springs, Colorado.

CIG states that the proposed facilities will provide Valley Line customers with 50,000 Dth per day of flexibility during the summer season and an additional 42,150 Dth per day of incremental capacity. CIG estimates that the cost of the proposed Summer-time Enhancement Project facilities will be $9,753,100 and that cost of the Valley Line 2003 Expansion Project will be $13,237,800 for a total cost of $22,990,900. CIG states that it will not initially seek any rate recovery for the costs associated with the Summer-time Enhancement Project. CIG states that it seeks rolled-in rate treatment for the costs associated with the Valley Line 2003 Expansion Project facilities.

Any questions regarding this application should be directed to Robert T. Tomlinson, Director, Regulatory Affairs, Colorado Interstate Gas Company, P.O. Box 1087, Colorado Springs, Colorado 80944 at (719) 520-3788 or by fax at (719) 667-7534 or Judy Heineman, Vice President and General Counsel, Colorado Interstate Gas Company, P.O. Box 1087, Colorado Springs, Colorado 80944 at (719) 520-4829 or by fax at (719) 520-4898.

There are two ways to become involved in the Commission's review of this project. First, any person wishing to obtain legal status by becoming a party to the proceedings for this project should, on or before November 21, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-28439 Filed 11-7-02; 8:45 am]

BILLING CODE 6717-01-P